DEPARTMENT OF EDUCATION

[Docket ID ED-2017-OM-0018]

Privacy Act of 1974; System of Records

AGENCY: Office of Management, Department of Education.

ACTION: Rescindment of systems of records notice.

SUMMARY: In accordance with the Privacy Act of 1974, as amended (Privacy Act) (5 U.S.C. 552a), the Department of Education (Department) rescinds from its existing inventory of systems of records notices subject to the Privacy Act two systems of records entitled “Official Time Records of Union Officials and Bargaining Unit Employees at the Department of Education” (18-05-08) and “General Performance Appraisal System (GPAS)” (18-05-10).

DATES: Submit your comments on this rescinded systems of records notice on or before May 10, 2017.

This rescinded systems of records notice will become effective April 10, 2017, unless it needs to be changed as a result of public comment.

ADDRESSES: Submit your comments through the Federal eRulemaking Portal or via postal mail, commercial delivery, or hand delivery. We will not accept comments submitted by fax or email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about the rescinded systems of records, address them to: Denise Carter, Acting Assistant Secretary, Office of Management, U.S. Department of Education, 400 Maryland Avenue SW., Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Deputy Chief Human Capital Officer, Office of Human Resources, Office of Management, U.S. Department of Education, 400 Maryland Avenue SW., Washington, DC 20202.

If you use a telecommunications device for the deaf or a text telephone, call the Federal Relay Service, toll free, at 1-800-877-8339.

SUPPLEMENTARY INFORMATION: The Department rescinds two systems of records notices from its inventory of record systems subject to the Privacy Act. The rescissions are not within the purview of subsection (r) of the Privacy Act, which requires submission of a report on a new or altered system of records.

The two systems of records notices are discontinued for the following reasons:

The Department rescinds the following Privacy Act system of records notice because the records maintained in this system of records notice are covered by OPM/GOVT-1 (General Personnel Records), last published in full at 77 FR 73694-73699 (Dec. 11, 2012) and last modified at 80 FR 74815 (Nov. 30, 2015), which is a governmentwide system of records notice:

1. Official Time Records of Union Officials and Bargaining Unit Employees at the Department of Education (18-05-08), 64 FR 30106, 30130-30131 (June 4, 1999).

Thus, the records that were previously covered by this system of records notice will now be covered by the OPM/GOVT-1 (General Personnel Records) governmentwide system of records notice.

The Department rescinds the following Privacy Act system of records notice because the records maintained in this system of records notice are covered by OPM/GOVT-2 (Employee Performance File System Records), last published in full at 71 FR 35342, 35347-35350 (June 19, 2006), and last modified at 80 FR 74815 (Nov. 30, 2015), which is a governmentwide system of records notice:

2. General Performance Appraisal System (GPAS) (18-05-10), 64 FR 30106, 30133-30135 (June 4, 1999).

Thus, the records that were previously covered by this system of records notice will now be covered by the OPM/GOVT-2 (Employee Performance File System Records) government wide system of records notice.

Accessible Format: Individuals with disabilities can obtain this document in an accessible format (e.g., braille, large print, audiotape, or compact disc) on request to the person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 5, 2017.
Denise L. Carter,
Acting Assistant Secretary for Management.

For the reasons discussed in the preamble, the Acting Assistant Secretary for Management rescinds the following two systems of records notices:

SYSTEM NAMES AND NUMBERS:

1. Official Time Records of Union Officials and Bargaining Unit Employees at the Department of Education (18-05-08); and

2. General Performance Appraisal System (GPAS) (18-05-10).

HISTORY:

The system of records notice entitled “Official Time Records of Union Officials and Bargaining Unit Employees at the Department of Education” (18-05-08) was last published in the Federal Register at 64 FR 30106, 30130-30131 (June 4, 1999), and the system of records notice entitled “General Performance Appraisal System (GPAS)” (18-05-10) was last published in the Federal Register at 64 FR 30106, 30133-30135 (June 4, 1999).

[FR Doc. 2017-07170 Filed 4-7-17; 8:45 am]

BILLING CODE 4000-01-P